DEPARTMENT OF TRANSPORTATION

Office of the Secretary

Notice of Applications for Certificates of Public Convenience and Necessity and Foreign Air Carrier Permits Filed Under Subpart B (formerly Subpart Q) During the Week Ending January 26, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-27060.

Date Filed: January 23, 2007.

Due Date for Answers, Conforming Applications, or Motion to Modify Scope: February 13, 2007.

Description: Application of Zoom Airlines Limited (“Zoom”) requesting an exemption and a foreign air carrier permit authorizing Zoom to provide (1) scheduled foreign air transportation of persons, property and mail between London, England (London Gatwick Airport) and New York, NY (John F. Kennedy International Airport), and (2) charter foreign air transportation of persons, property and mail between a point(s) in the United Kingdom, on the one hand, and a point(s) in the United States, on the other, and other charter flights.

Docket Number: OST-2007-27074.

Date Filed: January 23, 2007.

Due Date for Answers, Conforming Applications, or Motion to Modify Scope: February 13, 2007.

Description: Application of Lynx Aviation, Inc. requesting a certificate of public convenience and necessity authorizing interstate scheduled air transportation of persons, property and mail.

Docket Number: OST-2007-27056.

Date Filed: January 22, 2007.

Due Date for Answers, Conforming Applications, or Motion to Modify Scope: February 12, 2007.

Description: Application of Polar Air Cargo, Inc. (“Polar”) requesting that the Department (i) disclaim jurisdiction over a proposed corporate re-organization in which Polar will be converted from a California corporation to a California limited liability company bearing the name Polar Air Cargo, LLC, and transfer its certificates of public convenience and necessity, exemptions, designations, frequency allocations and related operating authorities (the “Authorities”) to Polar Air Worldwide, Inc. (“Polar Worldwide”), a Delaware corporation, which will continue air carrier operations under the “Polar Air Cargo” brand, or (ii) in the alternative, approve the transfer of the Authorities to Polar Worldwide.

Renee V. Wright,
Program Manager, Docket Operations, Federal Register Liaison.

[FR Doc. E7-1996 Filed 2-6-07; 8:45 am]

BILLING CODE 4910-9X-P